NUCLEAR REGULATORY COMMISSION

10 CFR Part 50

[Docket No. PRM-50-126; NRC-2024-0173]

Technical Specifications for Nuclear Power Reactors

AGENCY: Nuclear Regulatory Commission.

ACTION: Petition for rulemaking; notice of docketing, and request for comment.

SUMMARY: The U.S. Nuclear Regulatory Commission (NRC) has received a petition for rulemaking (PRM) from Brian D. Mann on behalf of the Technical Specifications Task Force, the Pressurized Water Reactor Owners Group, and the Boiling Water Reactor Owners' Group, dated September 13, 2024, requesting that the NRC revise its regulations to apply risk insights to the selection of technical specifications Limiting Conditions for Operation and to update the regulation to be consistent with the guidance in the NRC's Standard Technical Specifications. The petition was docketed by the NRC on October 1, 2024, and has been assigned Docket No. PRM-50-126. The NRC is examining the issues raised in PRM-50-126 to determine whether they should be considered in rulemaking. The NRC is requesting public comment on this petition at this time.

DATES: Submit comments by February 10, 2025. Comments received after this date will be considered if it is practical to do so, but the NRC is able to assure consideration only for comments received on or before this date.

ADDRESSES: You may submit comments by any of the following methods however, the NRC encourages electronic comment submission through the Federal rulemaking website:

• Federal Rulemaking website: Go to https://www.regulations.gov and search for Docket ID NRC-2024-0173. Address questions about NRC dockets to Helen Chang; telephone: 301-415-3228; email: Helen.Chang@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. Eastern Time (ET), Federal workdays; telephone: 301-415-1677.

You can read a plain language description of this petition for rulemaking at https://www.regulations.gov/docket/NRC-2024-0173. For additional direction on obtaining information and submitting comments, see “Obtaining Information and Submitting Comments” in the SUPPLEMENTARY INFORMATION section of this document.

FOR FURTHER INFORMATION CONTACT: Denise Edwards, U.S. Nuclear Regulatory Commission, Washington DC 20555-0001; telephone: 404-997-4432, email: Denise.Edwards@nrc.gov.

SUPPLEMENTARY INFORMATION:

I. Obtaining Information and Submitting Comments

A. Obtaining Information

Please refer to Docket ID NRC-2024-0173 when contacting the NRC about the availability of information for this action. You may obtain publicly available information related to this action by any of the following methods:

• Federal Rulemaking Website: Go to https://www.regulations.gov and search for Docket ID NRC-2024-0173.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: The NRC PDR, where you may examine and order copies of publicly available documents, is open by appointment. To make an appointment to visit the PDR, please send an email to PDR.Resource@nrc.gov or call 1-800-397-4209 or 301-415-4737, between 8 a.m. and 4 p.m. ET, Monday through Friday, except Federal holidays.

B. Submitting Comments

The NRC encourages electronic comment submission through the Federal Rulemaking website (https://www.regulations.gov). Please include Docket ID NRC-2024-0173 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. The Petitioner and Petition

The PRM was filed by Brian D. Mann on behalf of the Technical Specifications Task Force, the Pressurized Water Reactor Owners Group, and the Boiling Water Reactor Owner's Group. The PRM requests that the NRC revise its regulations at title 10 of the Code of Federal Regulations (10 CFR), section 50.36, “Technical specifications,” to apply risk insights to the selection of technical specifications (TS) Limiting Conditions for Operation (LCO) and to update the regulation to be consistent with the guidance in the NRC's Standard Technical Specifications (STS). The PRM may be found in ADAMS under Accession number ML24274A209.

III. Discussion of the Petition

The petitioner requests the NRC revise 10 CFR 50.36 to apply risk insights to the selection of technical specifications TS LCO and to update the regulation to be consistent with the guidance in the NRC's STS. The petitioner proposes the following specific changes to risk-inform the criteria for selection of LCOs:

• Revise the selection criteria for LCOs to state that items that satisfy 10 CFR 50.36(c)(2)(ii)(B) and (C) (i.e., Criterion 2 and Criterion 3) must also be shown by probabilistic risk assessment to be significant to public health and safety.

• Update the description of 10 CFR 50.36(c)(2)(ii)(D) (i.e., Criterion 4) to eliminate the reference to operating experience and to distinguish Criterion 4 from the revised Criteria 2 and 3.

• Although not part of the proposed rule changes, the Petitioner also suggests that in conjunction with the rule change the Commission update the “Final Policy Statement on Technical Specifications Improvements for Nuclear Power Reactors” (58 FR 39132, July 22, 1993), to reflect changes made to 10 CFR 50.36.

The petitioner states that these changes will allow future improvements to plant safety and operation to be made based on the application of risk to the TS selection criteria. The rule as currently written does not allow for these types of improvements.

The petitioner also proposes updates to 10 CFR 50.36 to make the rule more consistent with the NRC's STS and to remove information that is no longer applicable. These changes are proposed on a “not-to-interfere” basis with the primary change to risk-inform the TS LCO selection criteria. To align the rule with the NRC's STS, the petitioner proposed the following specific changes:

• Revise the regulation to not require TS bases for the Design Features. The petitioner points out that neither the STS nor plant TS approved by the NRC include Bases for Design Features. The petitioner states that this change would align the regulation with over 50 years of Commission practice.

• Eliminate the requirement that the TS include requirements designated as limiting safety system settings (LSSS). The petitioner states that in the STS, LSSS have been merged with the LCO requirements for instrumentation. Additionally, the petitioner states that the industry and the NRC have disagreed on what constitutes an LSSS causing confusion in the application of the regulation. Based on this, the petitioner recommends deletion of this requirement.

• Revise the description of Surveillance Requirements (SRs) to no longer state that SRs assure that the necessary quality of systems and components is maintained. The petitioner states that the regulation is inaccurate in stating that SRs assure the quality of systems and components is maintained because there are many aspects of system or component quality that are not monitored by TS SRs and are instead verified by other means, such as the American Society of Mechanical Engineers Code, vendor quality assurance audits, licensee receipt inspections, and the licensee's NRC-approved Quality Assurance Program. Based on this, the petitioner concludes that none of the actions to assure quality are confirmed by TS SRs, so the description of SRs should be revised.

• Revise the Administrative Controls description to remove the requirement to include recordkeeping, and review and audit, and to include a requirement for licensee programs. The petitioner states that in 1993, these requirements were removed from the STS. In addition, the Administrative Controls section of the STS includes programs not described in the regulation. Based on this, the petitioner proposed to update the description of Administrative Controls to be consistent with the STS.

• Eliminate the unnecessary exceptions for plants licensed prior to 1969. The petitioner states that these exceptions are no longer applicable as all operating plants have TS included in the license. The petitioner suggests that this provision be removed to simplify the regulations.

IV. Conclusion

The NRC has determined that the petition meets the sufficiency requirements for docketing a PRM under 10 CFR 2.803, “Petition for rulemaking-NRC action.” The NRC will examine the issues raised in PRM-50-126 and any comments received in response to this comment request to determine whether these issues should be considered in rulemaking. The public can monitor further action on the rulemaking that will address this petition by searching Docket ID NRC-2024-0173 on the Federal rulemaking website, https://www.regulations.gov. The site allows members of the public to receive alerts when changes or additions occur in a docket folder. To subscribe: (1) navigate to the docket folder (NRC-2024-0173); (2) click the “Subscribe” link; and (3) enter an email address and click on the “Subscribe” link. The NRC also tracks the status of all NRC rules and PRMs on its website at https://www.nrc.gov/about-nrc/regulatory/rulemaking/rules-petitions.html.

Dated: November 19, 2024.
For the Nuclear Regulatory Commission.
Carrie Safford,
Secretary of the Commission.

[FR Doc. 2024-27422 Filed 11-22-24; 8:45 am]

BILLING CODE 7590-01-P